DEPARTMENT OF HOMELAND SECURITY

Coast Guard

46 CFR Parts 2, 5, 11, 107, 113, 114, 117, 125, 159, 162, 175, and 180

[Docket No. USCG-2015-0867]

Shipping; Technical, Organizational, and Conforming Amendments

AGENCY: Coast Guard, DHS.

ACTION: Final rule.

SUMMARY: This final rule makes non-substantive technical, organizational, and conforming amendments to existing regulations throughout Title 46 of the Code of Federal Regulations. This rule will have no substantive effect on the regulated public.

DATES: This final rule is effective October 16, 2015.

ADDRESSES: Documents mentioned in this preamble as being available in the docket are part of docket USCG-2015-0867, which is available at http://regulations.gov.

FOR FURTHER INFORMATION CONTACT: If you have questions on this final rule, call or email Mr. Paul Crissy, Coast Guard; telephone 202-372-1093, email Paul.H.Crissy@uscg.mil.

SUPPLEMENTARY INFORMATION:

Table of Contents for Preamble

I. Abbreviations

II. Regulatory History

III. Basis and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

DHS Department of Homeland Security

E.O. Executive Order

FR Federal Register

OMB Office of Management and Budget

Pub. L. Public Law

§ Section symbol

U.S.C. United States Code

II. Regulatory History

We did not publish a notice of proposed rulemaking for this rule. Under 5 U.S.C. 553(b)(A), the Coast Guard finds that this rule is exempt from notice and comment rulemaking requirements, because these changes involve rules of agency organization, procedure, or practice. In addition, the Coast Guard finds that notice and comment procedures are unnecessary under 5 U.S.C. 553(b)(B), as this rule consists only of corrections and editorial, organizational, and conforming amendments, and that these changes will have no substantive effect on the public. Under 5 U.S.C. 553(d)(3), the Coast Guard finds that, for the same reasons, good cause exists for making this final rule effective upon publication in the Federal Register.

III. Basis and Purpose

On the 1st of October each year, the printed editions of Titles 46 and 49 of the Code of Federal Regulations (CFR) are re-codified. This rule, which becomes effective October 16, 2015, makes technical and editorial corrections throughout Title 46. There are no technical or editorial corrections for Title 49 this year. This rule does not create or change any substantive requirements.

IV. Discussion of the Rule

Each year, the Coast Guard issues technical, organizational, and conforming amendments to existing regulations in Titles 46 and 49 of the CFR. These annual “technical amendments” provide the public with more accurate and current regulatory information, but do not change the impact on the public of any Coast Guard regulations. This rule makes no changes to Title 49.

This rule makes changes in the following sections of Title 46 in the CFR:

Section 2.75-25(c)(3): Change “in the Federal Register” to “on the Coast Guard's Maritime Information eXchange Web site at http://cgmix.uscg.mil/equipment” to reflect the accurate location where the Coast Guard publishes the approval and listing of recognized laboratories. The change updates an outdated location.

Section 5.903(b): Change the mailing address to reflect the U.S. Coast Guard Office of Investigations and Analysis as the office for submitting applications.

Section 11.329(e): Remove the table in § 11.329(e) that is titled “Table 1 to § 11.327(d).”).” The same Table 1 correctly appears in § 11.327(d), but it has been erroneously duplicated in § 11.329(e). Table 1 to § 11.329(e) remains unchanged.

Sections 107.111, 114.400(b), 125.160, 159.005-13(a)(4), 175.400: Change the reference to the location where the Coast Guard publishes a listing of current and formerly approved equipment and materials. The change updates an outdated location.

Section 113.25-9(a): Change the term “windless” to “windlass.” The change corrects a typographical error.

Sections 117.68(a)(1), 117.68(b)(1), 117.68(c)(2)(ii), 117.68(c)(2)(iii), 117.70(b)(1), 117.70(d)(1), 117.71(c), 180.68(a)(1), 180.68(c)(2)(ii), 180.68(c)(2)(iii), 180.70(b)(1), 180.70(d)(1), 180.71(c), 180.75(a): Add a reference to the relevant approval standard for equipment carried on vessels subject to the International Convention for the Safety of Life at Sea (SOLAS), 1974, as an option for compliance. The SOLAS standards have already routinely been approved by the Coast Guard as an “other standard specified by the Commandant.” The change will provide clarity for the regulated public, eliminating duplicative approval requests.

Section 162.060-10(b)(1): Change “manufacturer” to “manufacturer or independent laboratory” to reflect the fact that the independent laboratory is typically the entity that submits requests for approval of alternatives as equivalent to the regulatory requirements.

Section 162.060-42(a)(2): Change the reference from “requirements in paragraph (b) of this section” to “requirements in paragraph (a)(1) of this section.” Section 162.060-42(a)(2) discusses the ability of an independent laboratory to reject a manufacturer's proposed ballast water management system if the system does not meet the requirements listed in another paragraph in that section. Paragraph (b) is an incorrect reference paragraph because it does not list requirements for the manufacturer's system; instead, it is a requirement for the independent laboratory. Paragraph (a)(1) is the correct reference paragraph because it lists the relevant requirements. The change corrects a typographical error.

V. Regulatory Analyses

We developed this rule after considering numerous statutes and executive orders (E.O.s) related to rulemaking. Below we summarize our analyses based on these statutes or E.O.s.

A. Regulatory Planning and Review

Executive Orders 13563 and 12866 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has not been designated a “significant regulatory action,” under section 3(f) of Executive Order 12866. Accordingly, the rule has not been reviewed by the Office of Management and Budget. Because this rule involves non-substantive changes and internal agency practices and procedures, it will not impose any additional costs on the public. The benefit of the non-substantive changes is increased clarity of regulations.

B. Small Entities

Under the Regulatory Flexibility Act (5 U.S.C. 601-612), rules exempt from the notice and comment requirements of the Administrative Procedure Act are not required to examine the impact of the rule on small entities. Nevertheless, we have considered whether this rule would have a significant economic impact on a substantial number of small entities. The term “small entities” comprises small businesses, not-for-profit organizations that are independently owned and operated and are not dominant in their fields, and governmental jurisdictions with populations of less than 50,000.

There is no cost to this final rule, and we do not expect it will have an impact on small entities because the provisions of this rule are technical and non-substantive. It will have no substantive effect on the public and will impose no additional costs. Therefore, the Coast Guard certifies under 5 U.S.C. 605(b) that this final rule will not have a significant economic impact on a substantial number of small entities.

C. Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please consult Mr. Paul Crissy by phone at 202-372-1093 or via email at Paul.H.Crissy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under E.O. 13132 (“Federalism”) if it has a substantial direct effect on the States, on the relationship between the national government and the States, or on the distribution of power and responsibilities among the various levels of government. We have analyzed this rule under that order and have determined that it is consistent with the fundamental federalism principles and preemption requirements described in E.O. 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any 1 year. Though this final rule will not result in such an expenditure, we do discuss the effects of this rule elsewhere in this preamble.

G. Taking of Private Property

This final rule will not cause a taking of private property or otherwise have taking implications under E.O. 12630 (“Governmental Actions and Interference with Constitutionally Protected Property Rights”).

H. Civil Justice Reform

This final rule meets applicable standards in sections 3(a) and 3(b)(2) of E.O. 12988 (“Civil Justice Reform”), to minimize litigation, eliminate ambiguity, and reduce burden.

I. Protection of Children

We have analyzed this final rule under E.O. 13045 (“Protection of Children from Environmental Health Risks and Safety Risks”). This final rule is not an economically significant rule and would not create an environmental risk to health or risk to safety that might disproportionately affect children.

J. Indian Tribal Governments

This final rule does not have tribal implications under E.O. 13175 (“Consultation and Coordination with Indian Tribal Governments”), because it does not have a substantial direct effect on one or more Indian tribes, on the relationship between the Federal Government and Indian tribes, or on the distribution of power and responsibilities between the Federal Government and Indian tribes.

K. Energy Effects

We have analyzed this final rule under E.O. 13211 (“Actions Concerning Regulations That Significantly Affect Energy Supply, Distribution, or Use”). We have determined that it is not a “significant energy action” under that order because it is not a “significant regulatory action” under E.O. 12866 and is not likely to have a significant adverse effect on the supply, distribution, or use of energy. The Administrator of OMB's Office of Information and Regulatory Affairs has not designated it as a significant energy action. Therefore, it does not require a Statement of Energy Effects under E.O. 13211.

L. Technical Standards

The National Technology Transfer and Advancement Act (15 U.S.C. 272 note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies.

This final rule does not use technical standards. Therefore, we did not consider the use of voluntary consensus standards.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2 and figure 2-1, paragraph (34)(a) of the Instruction. This final rule involves amendments to regulations that are editorial or procedural. An environmental analysis checklist and a categorical exclusion determination are available in the docket for this final rule where indicated under ADDRESSES.

List of Subjects

46 CFR Part 2

Marine safety, Reporting and recordkeeping requirements, Vessels.

46 CFR Part 5

Administrative practice and procedure, Alcohol abuse, Drug abuse, Investigations, Seamen.

46 CFR Part 11

Penalties, Reporting and recordkeeping requirements, Schools, Seamen.

46 CFR Part 107

Marine safety, Oil and gas exploration, Reporting and recordkeeping requirements, Vessels.

46 CFR Part 113

Communications equipment, Fire prevention, Vessels.

46 CFR Part 114

Marine safety, Passenger vessels, Reporting and recordkeeping requirements.

46 CFR Parts 117 and 180

Marine safety, Passenger vessels.

46 CFR Part 125

Administrative practice and procedure, Cargo vessels, Hazardous materials transportation, Marine safety, Seamen.

46 CFR Part 159

Business and industry, Laboratories, Marine safety, Reporting and recordkeeping requirements.

46 CFR Part 162

Fire prevention, Marine safety, Oil pollution, Reporting and recordkeeping requirements.

46 CFR Part 175

Marine safety, Passenger vessels, Reporting and recordkeeping requirements.

For the reasons discussed in the preamble, the Coast Guard amends 46 CFR parts 2, 5, 11, 107, 113, 114, 117, 125, 159, 162, 175, and 180 to read as follows:

PART 2—VESSEL INSPECTIONS

1. The authority citation for part 2 continues to read as follows:

Authority: Sec. 622, Pub. L. 111-281; 33 U.S.C. 1903; 43 U.S.C. 1333; 46 U.S.C. 2103, 2110, 3306, 3703; E.O. 12234, 45 FR 58801, 3 CFR, 1980 Comp., p. 277, sec. 1-105; Department of Homeland Security Delegation No. 0170.1(II)(77), (90), (92)(a), (92)(b).

§ 2.75-25 [Amended]

2. In § 2.75-25(c)(3), remove the text “in the Federal Register” and add, in its place, the text “on the Coast Guard's Maritime Information eXchange Web site at http://cgmix.uscg.mil/equipment”.

PART 5—MARINE INVESTIGATION REGULATIONS—PERSONNEL ACTION

3. The authority citation for part 5 continues to read as follows:

Authority: 46 U.S.C. 2103, 7101, 7301, 7701; Department of Homeland Security Delegation No. 0170.1.

4. Revise § 5.903(b) to read as follows:

§ 5.903 Application procedures.

* * * * *

(b) The completed application and letter must be addressed to the U.S. Coast Guard Office of Investigations and Analysis, Commandant (CG-INV-1), U.S. Coast Guard Stop 7501, 2703 Martin Luther King Jr. Avenue SE., Washington, DC 20593-7501, and must be delivered in person to the nearest Officer in Charge, Marine Inspection.

* * * * *

PART 11—REQUIREMENTS FOR OFFICER ENDORSEMENTS

5. The authority citation for part 11 continues to read as follows:

Authority: 14 U.S.C. 633; 31 U.S.C. 9701; 46 U.S.C. 2101, 2103, and 2110; 46 U.S.C. chapter 71; 46 U.S.C. 7502, 7505, 7701, 8906, and 70105; E.O. 10173; Department of Homeland Security Delegation No. 0170.1. Section 11.107 is also issued under the authority of 44 U.S.C. 3507.

§ 11.329 [Amended]

6. In § 11.329(e), remove Table 1 to § 11.327(d).

PART 107—INSPECTION AND CERTIFICATION

7. The authority citation for part 107 continues to read as follows:

Authority: 43 U.S.C. 1333; 46 U.S.C. 3306, 3307; 46 U.S.C. 3316; Department of Homeland Security Delegation No. 0170.1; § 107.05 also issued under the authority of 44 U.S.C. 3507.

§ 107.111 [Amended]

8. In § 107.111 in the definition of “Approval series” following the text “A listing of”, remove the text “approved equipment, including all of the approval series, is published periodically by the Coast Guard in Equipment Lists (COMDTINST M16714.3 series), available from the Superintendent of Documents.” and add, in its place, the text “current and formerly approved equipment and materials may be found on the Internet at: http://cgmix.uscg.mil/equipment.”.

PART 113—COMMUNICATION AND ALARM SYSTEMS AND EQUIPMENT

9. The authority citation for part 113 continues to read as follows:

Authority: 46 U.S.C. 3306, 3703; Department of Homeland Security Delegation No. 0170.1.

§ 113.25-9 [Amended]

10. In § 113.25-9(a) following the words “passageways in cargo areas, steering gear rooms,” remove the word “windless” and add, in its place, the word “windlass”.

PART 114—GENERAL PROVISIONS

11. The authority citation for part 114 continues to read as follows:

Authority: 46 U.S.C. 2103, 3306, 3703; Pub. L. 103-206, 107 Stat. 2439; 49 U.S.C. App. 1804; Department of Homeland Security Delegation No. 0170.1; § 114.900 also issued under 44 U.S.C. 3507.

§ 114.400 [Amended]

12. In § 114.400(b), in the definition of “Approval series” following the text “A listing of”, remove the text “approved equipment, including all of the approval series, is published periodically by the Coast Guard in Equipment Lists (COMDTINST M16714.3 series), available from the Superintendent of Documents.” and add, in its place, the text “current and formerly approved equipment and materials may be found on the Internet at: http://cgmix.uscg.mil/equipment.”.

PART 117—LIFESAVING EQUIPMENT AND ARRANGEMENTS

13. The authority citation for part 117 continues to read as follows:

Authority: 46 U.S.C. 2103, 3306; E.O. 12234, 45 FR 58801, 3 CFR, 1980 Comp., p. 277; Department of Homeland Security Delegation No. 0170.1.

§ 117.68 [Amended]

14. Amend § 117.68 as follows:

a. In paragraphs (a)(1), (b)(1), and (c)(2)(ii) following the text “specified by the Commandant” add the text “, including, but not limited to, approval series 160.121”; and

b. In paragraph (c)(2)(iii), following the text “specified by the Commandant” add the text “, including, but not limited to, approval series 160.122”.

§ 117.70 [Amended]

15. Amend § 117.70 as follows:

a. In paragraph (b)(1) following the text “specified by the Commandant”, add the text “, including, but not limited to, approval series 160.150”; and

b. In paragraph (d)(1) following the text “specified by the Commandant”, add the text “, including, but not limited to, approval series 160.110”.

§ 117.71 [Amended]

16. In § 117.71(c), following the text “specified by the Commandant”, add the text “, including, but not limited to, approval series 160.155 or 160.176”.

PART 125—GENERAL

17. The authority citation for part 125 continues to read as follows:

Authority: 46 U.S.C. 2103, 3306, 3307; 49 U.S.C. App. 1804; sec. 617, Pub. L. 111-281, 124 Stat. 2905; Department of Homeland Security Delegation No. 0170.1.

§ 125.160 [Amended]

18. In § 125.160 in the definition of “Approval series” following the text “A listing of”, remove the text “approved equipment, including all of the approval series, is published periodically by the Coast Guard in Equipment Lists (COMDTINST M16714.3 series), available from the Superintendent of Documents.” and add, in its place, the text “current and formerly approved equipment and materials may be found on the Internet at: http://cgmix.uscg.mil/equipment.”.

PART 159—APPROVAL OF EQUIPMENT AND MATERIALS

19. The authority citation for part 159 continues to read as follows:

Authority: 46 U.S.C. 3306, 3703; 49 CFR 1.45, 1.46; Section 159.001-9 also issued under the authority of 44 U.S.C. 3507.

20. Revise § 159.005-13(a)(4) to read as follows:

§ 159.005-13 Equipment or material: Approval.

(a) * * *

(4) Publishes a record of the approval in the Coast Guard Maritime Information Exchange (CGMIX). A listing of current and formerly approved equipment and materials may be found on the Internet at: http://cgmix.uscg.mil/equipment.

* * * * *

PART 162—ENGINEERING EQUIPMENT

21. The authority citation for part 162 continues to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; Department of Homeland Security Delegation No. 0170.1.

§ 162.060-10 [Amended]

22. § 162.060—10(b)(1), after the text “practicable or applicable, a manufacturer”, add the text “or independent laboratory”.

§ 162.060-42 [Amended]

23. In § 162.060-42(a)(2) following the text “requirements in paragraph”, remove the text “(b)” and add, in its place, the text “(a)(1)”.

PART 175—GENERAL PROVISIONS

24. The authority citation for part 175 continues to read as follows:

Authority: 46 U.S.C. 2103, 3205, 3306, 3703; Pub. L. 103-206, 107 Stat. 2439; 49 U.S.C. App. 1804; Department of Homeland Security Delegation No. 0170.1; § 175.900 also issued under 44 U.S.C. 3507.

§ 175.400 [Amended]

25. In § 175.400 in the definition of “Approval series” following the text “A listing of”, remove the text “approved equipment, including all of the approval series, is published periodically by the Coast Guard in Equipment Lists (COMDTINST M16714.3 series), available from the Superintendent of Documents.” and add, in its place, the text “current and formerly approved equipment and materials may be found on the Internet at: http://cgmix.uscg.mil/equipment.”.

PART 180—LIFESAVING EQUIPMENT AND ARRANGEMENTS

26. The authority citation for part 180 continues to read as follows:

Authority: 46 U.S.C. 2104, 3306; E.O. 12234, 45 FR 58801, 3 CFR, 1980 Comp., p. 277; Department of Homeland Security Delegation No. 0170.1.

§ 180.68 [Amended]

27. Amend § 180.68 as follows:

a. In paragraph (a)(1), following the text “specified by the Commandant” add the text “, including, but not limited to, approval series 160.121”;

b. In paragraph (c)(2)(ii), after the text “specified by the Commandant”, add the text “, including, but not limited to, approval series 160.121”; and

c. In paragraph (c)(2)(iii), after the text “or other standard specified by the Commandant”, add the text “, including, but not limited to, approval series 160.122”.

§ 180.70 [Amended]

28. Amend § 180.70 as follows:

a. In paragraph (b)(1), following the text “specified by the Commandant” add the text “, including, but not limited to, approval series 160.150”; and

b. In paragraph (d)(1), following the text “specified by the Commandant” add the text “, including, but not limited to, approval series 160.110”.

§ 180.71 [Amended]

29. In § 180.71(c), following the text “specified by the Commandant” add the text “, including, but not limited to, approval series 160.155 or 160.176”.

§ 180.75 [Amended]

30. In § 180.75(a), following the text “specified by the Commandant” add the text “, including, but not limited to, approval series 160.112”.

Katia Kroutil,
Chief, Office of Regulations and Administrative Law, U.S. Coast Guard.

[FR Doc. 2015-26119 Filed 10-15-15; 8:45 am]

BILLING CODE 9110-04--P